DEPARTMENT OF COMMERCE

International Trade Administration

[A-570-601]

Tapered Roller Bearings and Parts Thereof, Finished and Unfinished, From the People's Republic of China: Final Results of Antidumping Duty Administrative Review, and Rescission of New Shipper Review; 2014-2015

AGENCY: Enforcement and Compliance, International Trade Administration, Department of Commerce.

SUMMARY: On July 14, 2016, the Department of Commerce (Department) published the preliminary results of the 28th administrative and new shipper reviews of the antidumping duty order on tapered roller bearings and parts thereof, finished and unfinished (TRBs), from the People's Republic of China (PRC). The period of review (POR) is June 1, 2014, through May 31, 2015. After analyzing the comments received, we made no changes to the margin calculations in the administrative review and we are rescinding the new shipper review (NSR). The final weighted-average dumping margins for the reviewed firms are listed below in the section entitled “Final Results of the Review.”

DATES: Effective January 17, 2017.

FOR FURTHER INFORMATION CONTACT: Blaine Wiltse or Manuel Rey, Enforcement and Compliance, International Trade Administration, U.S. Department of Commerce, 1401 Constitution Avenue NW., Washington, DC 20230; telephone: (202) 482-6345 or (202) 482-5518, respectively.

Background

These final results of administrative review cover four exporters of the subject merchandise, Changshan Peer Bearing Co. Ltd. (CPZ/SKF), Haining Nice Flourish Auto Parts Co., Ltd. (Nice Flourish), Roci International (HK) Limited (Roci), and Yantai CMC Bearing Co., Ltd. (Yantai CMC). The Department selected CPZ/SKF and Yantai CMC as mandatory respondents for individual examination; however, we subsequently found that Yantai CMC does not qualify for a separate rate. The NSR covers Shandong Bolong Bearing Co., Ltd. (Bolong).

On July 14, 2016, the Department published the Preliminary Results.¹ In the Preliminary Results, we found that Bolong's sale to the United States is not bona fide, as required by section 751(a)(2)(B)(iv) of the Tariff Act of 1930, as amended (the Act), and, therefore, we indicated that we intended to rescind the NSR.

¹ See Tapered Roller Bearings and Parts Thereof, Finished and Unfinished, From the People's Republic of China: Preliminary Results, Partial Rescission of Antidumping Duty Administrative Review, and Preliminary Rescission of New Shipper Review; 2014-2015, 81 FR 45455 (July 14, 2016) (Preliminary Results), and accompanying Preliminary Decision Memorandum.

In August 2016, we received case briefs from the Timken Company (the petitioner), Bolong and Yantai CMC. In September 2016, we received rebuttal briefs from the petitioner and CPZ/SKF. In October 2016, the Department held a public hearing in the administrative review at the request of the petitioner.

In November 2016, the Department extended the deadline for the final results by 60 days to January 10, 2017.²

² See Memorandum from Manuel Rey, International Trade Compliance Analyst, Office II, Antidumping and Countervailing Duty Operations, to Christian Marsh, Deputy Assistant Secretary for AD/CVD Operations, entitled, “Tapered Roller Bearings and Parts Thereof, Finished or Unfinished, From the People's Republic of China: Extension of Deadline for the Final Results of Antidumping Duty Administrative, Changed Circumstances, and New Shipper Reviews,” dated November 1, 2016.

The Department conducted this review in accordance with section 751 of the Act.

Scope of the Order ³

³ See Notice of Antidumping Duty Order; Tapered Roller Bearings and Parts Thereof, Finished or Unfinished, From the People's Republic of China, 52 FR 22667 (June 15, 1987) (Order).

The merchandise covered by the order includes tapered roller bearings and parts thereof. The subject merchandise is currently classifiable under Harmonized Tariff Schedule of the United States (HTSUS) subheadings: 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. The HTSUS subheadings are provided for convenience and customs purposes only; the written description of the scope of the order is dispositive.⁴

⁴ For a complete description of the scope of the order, see the “Issues and Decision Memorandum for the Antidumping Duty Administrative Review (2014-2015): Tapered Roller Bearings and Parts Thereof, Finished and Unfinished, from the People's Republic of China,” from Gary Taverman, Associate Deputy Assistant Secretary for Antidumping and Countervailing Duty Operations, to Paul Piquado, Assistant Secretary for Antidumping and Countervialing Duty Operations, dated concurrently with, and adopted by, this notice (Issues and Decision Memo).

Separate Rates

In the Preliminary Results, we found that evidence provided by CPZ/SKF, Nice Flourish, and Roci supported finding an absence of both de jure and de facto government control, and, therefore, we preliminarily granted a separate rate to each of these companies.⁵ We received no information since the issuance of the Preliminary Results that provides a basis for reconsidering these determinations. Therefore, for the final results, we continue to find that CPZ/SKF, Nice Flourish, and Roci are eligible for separate rates.

⁵ Id., at 2-5.

With respect to Yantai CMC, however, we determined in the Preliminary Results that this company failed to demonstrate an absence of de facto government control, and, thus, the Department did not grant Yantai CMC a separate rate. For these final results, we continue to find, based on record evidence, that Yantai CMC failed to demonstrate an absence of de facto government control. Accordingly, we are not granting Yantai CMC a separate rate. For further discussion of this issue, see Comments 2 through 5 of the accompanying Issues and Decision Memorandum.

Weighted-Average Dumping Margin for the Non-Examined, Separate-Rate Companies

In accordance with the U.S. Court of Appeals for the Federal Circuit's decision in Albemarle Corp. v. United States, we are applying to the exporters subject to this review that are determined to be eligible for a separate rate, but are not selected as individually examined respondents, the rate calculated for the mandatory respondent, CPZ/SKF, which is de minimis.⁶

⁶ See, Albemarle Corp. & Subsidiaries v. United States, 821 F.3d 1345 (Fed. Cir. 2016).

Analysis of Comments Received

All issues raised in the case and rebuttal briefs by parties to this administrative review and new shipper review are addressed in the Issues and Decision Memorandum. A list of the issues which parties raised and to which we respond in the Issues and Decision Memo is attached to this notice as an Appendix. The Issues and Decision Memorandum is a public document and is on file electronically via Enforcement and Compliance's Antidumping and Countervailing Duty Centralized Electronic Service System (ACCESS). ACCESS is available to registered users at https://access.trade.gov, and it is available to all parties in the Central Records Unit, room B8024 of the main Department of Commerce building. In addition, a complete version of the Issues and Decision Memorandum can be accessed directly at http://trade.gov/enforcement. The signed Issues and Decision Memorandum and the electronic version of the Issues and Decision Memorandum are identical in content.

Changes Since the Preliminary Results

Based on our analysis of the comments received, we made no changes in the margin calculation for CPZ/SKF.

Rescission of New Shipper Review

For the reasons explained in the Issues and Decision Memorandum, the Department continues to find that Bolong's sale is non-bona fide. Because the non-bona fide sale was the only reported sale of subject merchandise during the POR, and thus there are no reviewable transactions, the Department is rescinding the NSR.

Period of Review

The POR is June 1, 2014, through May 31, 2015.

Final Results of the Administrative Review

Because Yantai CMC did not demonstrate that it is entitled to a separate rate, the Department finds Yantai CMC to be part of the PRC-wide entity. No party requested a review of the PRC-wide entity. Therefore, we did not conduct a review of the PRC-wide entity and the entity's rate is not subject to change.⁷ The rate previously established for the PRC-wide entity is 92.84 percent.

⁷ See Antidumping Proceedings: Announcement of Change in Department Practice for Respondent Selection in Antidumping Duty Proceedings and Conditional Review of the Nonmarket Economy Entity (NME) in NME Antidumping Duty Proceedings, 78 FR 65963, 65970 (November 4, 2013).

Additionally, we are assigning the following weighted-average dumping margins to the firms listed below for the period June 1, 2014, through May 31, 2015:

Exporters | Weighted- average dumping margin (percent)
Changshan Peer Bearing Co., Ltd | 0.00
Haining Nice Flourish Auto Parts Co., Ltd * | 0.00
Roci International (HK) Limited * | 0.00
* This company demonstrated eligibility for a separate rate in this administrative review.

Disclosure

We intend to disclose the calculations performed within five days of the date of publication of this notice to parties in this proceeding in accordance with 19 CFR 351.224(b).

Assessment Rates

Pursuant to section 751(a)(2)(C) of the Act, and 19 CFR 351.212(b)(1), the Department has determined, and Customs and Border Protection (CBP) shall assess, antidumping duties on all appropriate entries of subject merchandise, where applicable, in accordance with the final results of this review. The Department intends to issue assessment instructions to CBP 15 days after the date of publication of these final results of review.

Pursuant to the Final Modification for Reviews,⁸ because the above-listed respondents' weighted-average dumping margins are zero, we will instruct CBP to liquidate the appropriate entries without regard to antidumping duties.⁹

⁸ See Antidumping Proceedings: Calculation of the Weighted-Average Dumping Margin and Assessment Rate in Certain Antidumping Duty Proceedings; Final Modification, 77 FR 8101 (February 14, 2012) (Final Modification for Reviews).

⁹ Id., 77 FR at 8102.

For Yantai CMC, because the Department determined that this company did not qualify for a separate rate, we will instruct CBP to assess dumping duties on the company's entries of subject merchandise at the rate of 92.84 percent.

For Bolong, because the Department rescinded the NSR, the Department will instruct CBP to discontinue the option of posting a bond or security in lieu of a cash deposit for entries of subject merchandise from Bolong. Bolong continues to be part of the PRC-wide entity and, therefore, we also will instruct CBP to assess dumping duties on the company's entries of subject merchandise at the rate of 92.84 percent.

For entries that were not reported in the U.S. sales database submitted by an exporter individually examined during this review, the Department will instruct CBP to liquidate such entries at the PRC-wide rate.

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be equal to the weighted-average dumping margin established in the final results of this review (except, if the rate is de minimis, then a cash deposit rate of zero will be established for that company); (2) for previously investigated or reviewed PRC and non-PRC exporters not listed above that currently have separate a rate, the cash deposit rate will continue to be the exporter-specific rate published for the most recently completed segment of this proceeding where the exporter received that separate rate; (3) for all PRC exporters of subject merchandise that have not been found to be entitled to a separate rate, the cash deposit rate will be the rate for the PRC-wide entity, 92.84 percent; and (4) for all non-PRC exporters of subject merchandise which have not received their own separate rate, the cash deposit rate will be the rate applicable to the PRC exporter that supplied that non-PRC exporter.

These deposit requirements, when imposed, shall remain in effect until further notice.

Notifications to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

Notifications to Interested Parties

This notice serves as the only reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

We are issuing and publishing these results of review in accordance with sections 751(a)(1) and 777(i)(1) of the Act.

Dated: January 10, 2017.
Paul Piquado,
Assistant Secretary for Enforcement and Compliance.

Appendix—List of Topics Discussed in the Issues and Decision Memorandum

1. Summary

2. Background

3. Scope of the Order

4. Discussion of the Issues

a. Surrogate Value for Truck Freight

b. The Department Should Grant Yantai CMC a Separate Rate

c. The Denial of Separate Rate Status for Yantai CMC Is Not Supported by Record Evidence

d. The Rate Assigned to Yantai CMC

e. The Department's Separate Rates Test and the Rate Assigned to Yantai CMC Are Inconsistent With the WTO Agreements

f. The Department Should Continue the NSR and Calculate a Margin for the Final

5. Conclusion

[FR Doc. 2017-00827 Filed 1-13-17; 8:45 am]

BILLING CODE 3510-DS-P